DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 15, 2004 at Vol. 69, No. 240 p. 75104-05.

DATES: Comments must be submitted on or before April 25, 2005.

FOR FURTHER INFORMATION CONTACT: Larry Long at the National Highway Traffic Safety Administration, Recall Management Division, NVS-215, 400 Seventh Street, SW., Washington, DC 20590, phone 202-366-6281.

SUPPLEMENTARY INFORMATION: National Highway Traffic Safety Administration

Title: Names and Addresses of First Purchasers of Motor Vehicles.

OMB Number: 2127-0044.

Type of Request: Renewal of a currently approved information collection.

Abstract: Pursuant to 49 U.S.C. 30117(b) a manufacturer of a motor vehicle or tire (except a retreaded tire) shall maintain a record of the name and address of the first purchasers of each vehicle or tire it produces and, to the extent prescribed by regulation of the Secretary, shall maintain a record of the name and address of the first purchaser of replacement equipment (except a tire) that the manufacturer produces. This agency has no regulation specifying how the information is to be collected or maintained. When NHTSA's authorizing statute was enacted in 1966, Congress determined that an efficient recall of defective or noncomplying motor vehicles required the vehicle manufacturers retain an accurate record of vehicle purchasers, in the event of a recall. Experience with this statutory provision has shown that manufacturers have retained this information in a manner sufficient to enable them to expeditiously notify vehicle purchasers in case of a recall. Based on this experience, NHTSA has determined that no regulation is needed.

Affected Public: Businesses or other for-profit.

Estimated Total Annual Burden: 1,075,000 burden hours (875,000 hours for first purchaser information, plus 200,000 hours for manufacturer recordkeeping).

ADDRESSES: Send comments, within 30 days, to the Office of Information and Regulatory Affairs, Office of Management and Budget, 725 17th Street, NW., Washington, DC 20503, Attention: NHTSA Desk Officer.

Comments are invited on: Whether the statutorily mandated collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A Comment to OMB is most effective if OMB receives it within 30 days of publication.

Kathleen C. DeMeter,
Director, Office of Defects Investigation.

[FR Doc. 05-5847 Filed 3-23-05; 8:45 am]

BILLING CODE 4910-59-P